DEPARTMENT OF HOMELAND SECURITY

Federal Emergency Management Agency

[Docket ID: FEMA-2007-0008]

FEMA National Advisory Council (NAC)-Integrated Public Alert and Warning System (IPAWS) Subcommittee

AGENCY: Federal Emergency Management Agency, DHS.

ACTION: Committee management; request for applicants for appointment to the FEMA National Advisory Council-Integrated Public Alert and Warning System Subcommittee.

SUMMARY: The Federal Emergency Management Agency is requesting qualified individuals interested in serving on the FEMA National Advisory Council (NAC)-Integrated Public Alert and Warning System (IPAWS) Subcommittee to apply for appointment. Pursuant to the Integrated Public Alert and Warning System Modernization Act of 2015, the IPAWS Subcommittee will consider common alerting and warning protocols, standards, terminology, and operating procedures for an integrated public alert and warning system.

DATES: Applications will be accepted until 11:59 p.m. EDT on October 6, 2016.

ADDRESSES: The preferred method of submission for application packages is via email, but application packages may also be submitted by fax or U.S. mail. Please submit by only ONE of the following methods:

• Email: FEMA-NAC@fema.dhs.gov. Please include “IPAWS Subcommittee Application” on the subject line of the email. Please save materials as one document using the naming convention, “LAST NAME_FIRST NAME”, and attach to the email.

• Fax: (540) 504-2331.

• U.S. Mail: Office of the National Advisory Council, Federal Emergency Management Agency, 8th Floor, 500 C Street SW., Washington, DC 20472-3184.

FOR FURTHER INFORMATION CONTACT: Deana Platt, Designated Federal Officer, Office of the National Advisory Council, Federal Emergency Management Agency, 8th Floor, 500 C Street SW., Washington, DC 20472-3184; telephone (202) 646-2700; fax (540) 504-2331; and email FEMA-NAC@fema.dhs.gov. For more information on the NAC, visit http://www.fema.gov/national-advisory-council.

SUPPLEMENTARY INFORMATION: The NAC is an advisory committee established in accordance with the provisions of the Federal Advisory Committee Act (FACA), 5 U.S.C. Appendix. As required by the Integrated Public Alert and Warning System Modernization Act of 2015, the FEMA Administrator established the IPAWS Subcommittee to develop recommendations for an integrated public alert and warning system. The IPAWS Subcommittee will review and make recommendations to the NAC on matters related to common alerting and warning protocols, standards, terminology, and operating procedures. The IPAWS Subcommittee will also make recommendations to the NAC on having the capability to adapt the distribution and content of communications based on locality, risks, or user preferences; to alert and warn individuals with disabilities; incorporate multiple communications technologies; provide alerts to the largest portion of the affected population; promote local and regional community preparedness and response; and provide redundant alert mechanisms.

FEMA is requesting qualified individuals who are interested in serving on the IPAWS Subcommittee to apply for appointment. Individuals selected for appointment will serve as either a Special Government Employee (SGE) or a Representative in one of the following disciplines: State and local government officials; emergency management agencies; emergency response providers; federally recognized Indian tribes and national Indian organizations; communications service providers; vendors, developers, and manufacturers of systems, facilities, equipment, and/or capabilities for the provision of communications services; third-party service bureaus; broadcasting industry (to include public broadcasting); commercial mobile radio service industry; cable industry; satellite industry; national organizations representing individuals with disabilities; blind, deaf, and hearing loss communities; individuals with access and functional needs; elderly; consumer or privacy advocates; and organizations representing individuals with Limited English Proficiency. The Administrator may appoint up to four (4) additional candidates to serve as FEMA Administrator Selections. The appointment will end upon the termination of the IPAWS Subcommittee in April 2019.

If you are interested and qualified based on leadership ability and subject-matter expertise, please apply for consideration of appointment by submitting an application package to the Office of the NAC as listed in the ADDRESSES section of this notice. Each application package MUST include the following information:

• Cover letter, addressed to the Office of the NAC, that indicates why you are interested in serving on the IPAWS Subcommittee, and includes the following information: The discipline area(s) being applied for, current position title and organization, home and work addresses, a current telephone number and email address

• Resume or Curriculum Vitae

Incomplete applications will not be considered. Each application will be reviewed based on relevant expertise in the appropriate field, and understanding of public alerts.

Appointees may be designated as a SGE as defined in section 202(a) of title 18, United States Code, or as a Representative member. Candidates selected for appointment as SGEs are required to complete a Confidential Financial Disclosure Form (Office of Government Ethics Form 450) each year. This form can be obtained by visiting the Web site of the Office of Government Ethics (http://www.oge.gov). However, please do not submit this form with your application.

The IPAWS Subcommittee will meet approximately four (4) times per year, two in person and two via webinar. Members may be reimbursed for travel expenses and per diem. All travel for IPAWS Subcommittee business must be approved in advance by the Designated Federal Officer.

The Department of Homeland Security (DHS) does not discriminate on the basis of race, color, religion, sex, national origin, political affiliation, sexual orientation, gender identity, marital status, disability, genetic information, age, membership in an employee organization, or other non-merit factor. DHS strives to achieve a widely diverse candidate pool for all of its recruitment actions. Current DHS and FEMA employees, FEMA Reservists, and DHS and FEMA contractors and potential contractors will not be considered for membership. Federally registered lobbyists may apply for positions designated as Representative appointments but are not eligible for positions that are designated as SGE appointments.

Dated: September 9, 2016.
W. Craig Fugate,
Administrator, Federal Emergency Management Agency.

[FR Doc. 2016-22127 Filed 9-14-16; 8:45 am]

BILLING CODE 9111-48-P